DEPARTMENT OF TRANSPORTATION

Federal Aviation Administration

Advanced Aviation Advisory Committee (AAAC); Notice of Public Meeting

AGENCY: Federal Aviation Administration, Department of Transportation.

ACTION: Notice of Advanced Aviation Advisory Committee (AAAC) meeting.

SUMMARY: This notice announces multiple meetings of the AAAC.

DATES: The meeting will be held on June 11, 2024, and October 9, 2024, between the hours of 1:00 p.m. and 4:30 p.m. Eastern Time.

Requests for accommodations for a disability must be received at least one week in advance of the meeting.

Requests to submit written materials to be reviewed during the meeting must be received at least one week in advance of the meeting.

ADDRESSES: The meetings will be held at the FAA Headquarters, 800 Independence Avenue SW, Washington, DC 20591. In-person attendance is limited to Advanced Aviation Advisory Committee members and selected FAA support staff. Members of the public who wish to observe the meeting through virtual means can access the livestream on the following FAA social media platform on the day of the event: https://www.youtube.com/FAAnews. For copies of meeting minutes along with all other information, please visit the AAAC internet website at https://www.faa.gov/uas/programs_partnerships/advanced_aviation_advisory_committee/.

FOR FURTHER INFORMATION CONTACT: Gary Kolb, Advanced Aviation Advisory Committee Manager, Federal Aviation Administration, U.S. Department of Transportation, at gary.kolb@faa.gov or 202-267-4441. Any committee-related request or reasonable accommodation request should be sent to the person listed in this section.

SUPPLEMENTARY INFORMATION:

I. Background

The AAAC was created under the Federal Advisory Committee Act (FACA), as amended, Public Law 92-463, 5 U.S.C. ch. 10, to provide the FAA with advice on key drone and advanced air mobility (AAM) integration issues by helping to identify challenges and prioritize improvements.

II. Agenda

At the meeting, the agenda will cover the following topics:

• Official Statement of the Designated Federal Officer

• Approval of the Agenda and Minutes

• Opening Remarks

• FAA Update

• Industry-Led Technical Topics

• New Business/Agenda Topics

• Closing Remarks

• Adjourn

Additional details will be posted on the AAAC internet website address listed in the ADDRESSES section at least 5 days in advance of the meeting.

III. Public Participation

The meetings will be open to the public via livestream. Members of the public who wish to observe the virtual meetings can access the livestream on the following FAA social media platform on the day of the event: https://www.youtube.com/FAAnews. The U.S. Department of Transportation is committed to providing equal access to this meeting for all participants. If you need alternative formats or services because of a disability, such as sign language, interpretation, or other ancillary aids, please contact the person listed in the FOR FURTHER INFORMATION CONTACT section.

The FAA is not accepting oral presentations at these meetings due to time constraints. Written statements submitted by the deadline will be provided to the AAAC members before the meetings. Any member of the public may submit a written statement to the committee at any time.

Issued in Washington, DC.
Sherita L. Jones,
Acting Chief of Staff, UAS Integration Office, Federal Aviation Administration.

[FR Doc. 2024-11440 Filed 5-23-24; 8:45 am]

BILLING CODE 4910-13-P